DEPARTMENT OF ENERGY

Federal Energy Regulatory Commission

[Docket No. EL16-100-000]

West Deptford Energy, LLC; Notice of Institution of Section 206 Proceeding and Refund Effective Date

On August 1, 2016, the Commission issued an order in Docket No. EL16-100-000, pursuant to section 206 of the Federal Power Act (FPA), 16 U.S.C. 824e (2012), instituting an investigation into the justness and reasonableness of West Deptford Energy, LLC's reactive power rates. West Deptford Energy, LLC, 156 FERC ¶ 61,084 (2016).

The refund effective date in Docket No. EL16-100-000, established pursuant to section 206(b) of the FPA, will be the date of publication of this notice in the Federal Register.

Dated: August 1, 2016.
Nathaniel J. Davis, Sr.,
Deputy Secretary.

[FR Doc. 2016-19078 Filed 8-10-16; 8:45 am]

BILLING CODE 6717-01-P